ENVIRONMENTAL PROTECTION AGENCY

[FRL-6947-8]

Agency Information Collection Activities: Submission for OMB Review; Comment Request; Establishing No-Discharge Zones Under the Clean Water Act Section 312

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Establishing No-Discharge Zones (NDZs) Under the Clean Water Act Section 312, EPA ICR Number 1791.03, OMB Control Number: 2040-0187 and current expiration date of February 28, 2001. The ICR describes the nature of the information collection and its expected burden and cost; where appropriate, it includes the actual data collection instrument.

DATES: Comments must be submitted on or before March 30, 2001.

ADDRESSES: Send comments, referencing EPA ICR No. 1791.03 and OMB Control No. 2040-0187, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR, contact Sandy Farmer at EPA by phone at (202) 260-2740, by E-mail at Farmer.sandy@epamail.epa.gov, or download off the Internet at http://www.epa.gov/icr and refer to EPA ICR No. 1791.03. For technical questions about the ICR, contact James Woodley at EPA by phone at (202) 260-1998 in the Office of Wetlands, Oceans, and Watersheds.

SUPPLEMENTARY INFORMATION: Title: Establishing No-Discharge Zones Under Clean Water Act Section 312 (OMB Control Number 2040-0187; EPA ICR Number 1791.03) expiring 02/28/2001. This is a request for extension of a currently approved collection.

Abstract: (A) UNDS No-discharge Zones: Under section 312(n) of the Clean Water Act (“Uniform National Discharge Standards for Vessels of the Armed Forces” or “UNDS”) no-discharge zones (“NDZs”) for discharges from Armed Forces vessels may be established by either State prohibition or EPA prohibition following the procedures in 40 CFR part 1700. UNDS also provides that the Governor of any State may petition EPA and the Secretary of Defense to review any determination or standard promulgated under the UNDS program if there is significant new information that could reasonably result in a change to the determination or standard. This ICR discusses the information that will be required from a State if it decides to establish a NDZ by State prohibition or apply for a NDZ by EPA prohibition, and the information that will be required from a State if it decides to submit a petition for review. The responses to this collection of information are required to obtain the benefit of an UNDS NDZ or a review of an UNDS determination or standard (see 33 U.S.C. 1322(n)). The information collection activities discussed in this ICR do not require the submission of any confidential information.

(B) Sewage No-discharge Zones: The need for EPA to obtain information for the establishment of no-discharge zones (NDZs) for vessel sewage in State waters stems from CWA sections 312(f)(3), (f)(4)(A), and (f)(4)(B), and subsequent regulations at 40 CFR 140.4(a-c). No-discharge zones are established to provide State and local governments with additional protection of waters from treated or untreated vessel sewage. There are 3 ways in which NDZs for vessel sewage can be established. This ICR discusses the information requirements associated with the establishment of NDZs for vessel sewage. The responses to this collection of information are required to obtain the benefit of a sewage NDZ (see 33 U.S.C. 1322). The information collection activities discussed in this ICR do not require the submission of any confidential information.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on May 19, 2000 (65 FR 31894) of the Federal Register and no comments were received.

Burden Statement: The annual public reporting and record keeping burden for this collection of information is estimated to average 144 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: States.

Estimated Number of Respondents: 16 per year.

Frequency of Response: one time collection.

Estimated Total Annual Hour Burden: 2207 hours per year.

Estimated Total Annualized Capital, O&M Cost Burden: $2,300.

Send comments on the Agency's need for this information, the accuracy of the provided burden estimates, and any suggested methods for minimizing respondent burden, including through the use of automated collection techniques to the addresses listed above. Please refer to EPA ICR No. 1791.03 and OMB Control No. 2040-0187 in any correspondence.

Dated: February 13, 2001.
Oscar Morales,
Director, Collection Strategies Division.

[FR Doc. 01-4870 Filed 2-27-01; 8:45 am]

BILLING CODE 6560-50-P